DEPARTMENT OF HOMELAND SECURITY

[Docket No. DHS-2025-0011]

Notice of Termination of Discretionary Federal Advisory Committees.

AGENCY: Department of Homeland Security (DHS)

ACTION: Notice of Termination of Discretionary Federal Advisory Committees.

SUMMARY: In accordance with Executive Order 14217, Commencing the Reduction of the Federal Bureaucracy, the Secretary of Homeland Security has determined that the termination of the Homeland Security Academic Partnership Council, Tribal Homeland Security Advisory Council, Artificial Intelligence Safety and Security Board, Public-Private Analytic Exchange Program, Homeland Security Science and Technology Advisory Committee, Cyber Investigations Advisory Board, Critical Infrastructure Partnership Advisory Council, and Data Privacy and Integrity Advisory Committee is in the best interest of the Department of Homeland Security. This determination follows consultation with the DHS Committee Management Officer, and the Committee Management Secretariat, General Services Administration, as required.

FOR FURTHER INFORMATION CONTACT: Michael J. Miron, telephone (202) 447-3151, email dhsfaca@hq.dhs.gov.

SUPPLEMENTARY INFORMATION: On February 19, 2025, the President issued Executive Order (E.O.) 14217, Commencing the Reduction of the Federal Bureaucracy, the order states within 30 days of the date of the order, the Assistant to the President for National Security Affairs, the Assistant to the President for Economic Policy, and the Assistant to the President for Domestic Policy shall identify and submit to the President additional unnecessary governmental entities and Federal Advisory Committees that should be terminated on grounds that they are unnecessary.

The Secretary of Homeland Security terminates these committees under the provisions of the Federal Advisory Committee Act (FACA) of 1972 (5 U.S.C., Ch.10), as well as 6 U.S.C. 451 effective March 7, 2025.

Dated: March 10, 2025.
Michael J. Miron,
Committee Management Officer.

[FR Doc. 2025-04011 Filed 3-12-25; 8:45 am]

BILLING CODE 9112-FN-P